DEPARTMENT OF THE INTERIOR

Fish and Wildlife Service

[FWS-R4-R-2015-N236]; [FXRS12610400000S3-167-FF04R02000]

Theodore Roosevelt and Holt Collier National Wildlife Refuges, Mississippi Final Comprehensive Conservation Plan and Finding of No Significant Impact for the Environmental Assessment

AGENCY: Fish and Wildlife Service, Interior.

ACTION: Notice of availability.

SUMMARY: We, the Fish and Wildlife Service (Service), announce the availability of the final Comprehensive Conservation plan (CCP) and finding of no significant impact for the environmental assessment for Theodore Roosevelt and Holt Collier National Wildlife Refuges (NWRs), Washington and Sharkey Counties, Mississippi. In the final CCP, we describe how we will manage the two refuges for the next 15 years.

ADDRESSES: You may obtain a copy of the CCP by downloading the document from our Internet Site at http://southeast.fws.gov/planning under “Final Documents.”

FOR FURTHER INFORMATION CONTACT: Mike Rich, Project Leader, at (662) 836-3004 (phone) or mike_rich@fws.gov (email).

SUPPLEMENTARY INFORMATION:

Introduction

With this notice, we complete the CCP process for Theodore Roosevelt and Holt Collier NWRs. We started the process through a notice in the Federal Register (78 FR 45953) on July 30, 2013. For more about the process, see that notice.

The Theodore Roosevelt NWR Complex (Complex) is comprised of seven refuges: Hillside (est. 1975), Holt Collier (est. 2004), Mathews Brake (est. 1980), Morgan Brake (est. 1977), Panther Swamp (est. 1978), Theodore Roosevelt (est. 2004), and Yazoo National Wildlife Refuge (est. 1936).

The Complex was originally known as the Yazoo National Wildlife Refuge Complex and then briefly named the Central Mississippi National Wildlife Refuge Complex. On January 23, 2004, section 145 of Public Law 108-199, the Consolidated Appropriations Act of 2004, was signed into law by then President George W. Bush. The Act renamed the Complex as the Theodore Roosevelt National Wildlife Refuge Complex. It designated the geographically separate Bogue Phalia Unit of Yazoo NWR as Holt Collier NWR. The refuge consists of 2,233 acres with an approved acquisition boundary of 18,000 acres. The Service lists its purpose as being designated under the Fish and Wildlife Coordination Act (16 U.S.C. 664): It “shall be administered . . . for the conservation, maintenance, and management of wildlife, resources thereof, and its habitat thereon.”

The Act also directed the Secretary of the Interior to establish the 6,600-acre Theodore Roosevelt NWR. No additional land was purchased for the two new refuges, but rather they were assembled from disjunct Farm Service Agency (FSA, formerly known as Farmers Home Administration) lands already in Service possession. To date 1,674 acres have been acquired in the Theodore Roosevelt NWR. The Service lists both new refuges as being established “for conservation purposes.”

The habitat consists mainly of converted agricultural lands now reforested to trees more indicative of the native bottomland hardwood forest. Farmlands and open water also occur. The refuge is not open to the public. There are no public facilities located on either refuge.

Background

The CCP Process

The National Wildlife Refuge (NWR) System Improvement Act of 1997 (Improvement Act) requires us to develop a CCP for each national wildlife refuge. CCPs are developed to provide refuge managers with a 15-year plan for achieving refuges' purposes and contributing toward the mission of the NWR System, consistent with sound principles of fish and wildlife management, conservation, legal mandates, and our policies. CCPs describe a broad management direction for conserving wildlife and their habitats. They propose wildlife-dependent recreational opportunities to be made available to the public. These include opportunities for hunting, fishing, wildlife observation, wildlife photography, and environmental education and interpretation. We will review the CCP annually and revise it as needed in accordance with the Improvement Act.

Comments

We made the Draft CCP and Environmental Assessment available online for a 30-day public review and comment period via a Federal Register notice (80 FR 13420) on March 13, 2015. A total of seven comments were received by mail, email or verbally at the April 2, 2015, public meeting in Rolling Fork, Mississippi. Comments supporting the plan and preferred alternative were received from the Mississippi Department of Wildlife, Fisheries and Parks, Safari Club International, and Mississippi Wildlife.

CCP Alternatives, Including Our Preferred Alternative

We developed three alternatives for managing the refuge (Alternatives A, B, and C), with Alternative B, Minimally Developed Refuges, selected for implementation. As these are newer refuges authorized by Congress in 2004, the focus of this plan is to develop them. Therefore, our efforts over the next 15 years will be focused on land acquisition to build-out the refuges to their approved acquisition boundaries. Passive habitat protection and the addition of new resource lands beneficial to wildlife will help preserve habitat in perpetuity and to lessen fragmentation. This plan has the objective of providing sanctuary to migratory species as a group, not just priority waterfowl species. White-tailed deer management would continue through the Holt Collier NWR hunt program and eventually at Theodore Roosevelt NWR. Integrated damage control of invasive and nuisance species would lessen the negative effects on the refuges' habitats.

Another primary focus of the plan is to create a visitor services program to enhance environmental education and outreach efforts substantially and to reach larger numbers of residents, students, educators, and visitors. It places priority on wildlife-dependent uses, such as hunting, fishing and wildlife observation. Priority public uses, such as hunting, are allowed at Holt Collier NWR. At a time when sufficient land is amassed and resources are available to allow for ample public use opportunities, Theodore Roosevelt NWR would be opened to hunting. Public use would be phased into both refuges. Compatibility determinations are updated for the priority public uses and for research and monitoring. For both refuges, some commercial uses would be allowed under a Commercial Special Use Permit, including commercial photography, firewood gathering, timber harvest for forest management, and trapping.

The Consolidated Appropriations Act of 2004 authorized construction of a Visitor Center to provide visitor services and to promote the Delta area's natural resources and cultural heritage. Funding was appropriated in 2009, in the amount of $2.6 million for the building of the Theodore Roosevelt NWR Visitor Center. On February 11, 2015, a total of 6.58 acres (originally proposed as approximately 5 acres) located off of Highway 61 in Sharkey County, Mississippi) was donated to the Service to construct a Visitor Center. A major focus of this plan and Service efforts will be to build and staff the Visitor Center. Since the location is secured for the Visitor Center, regular Service procedures will be followed for building design and construction. Staffing is proposed to run the Visitor Center, to provide environmental and interpretive programs, and to coordinate volunteers. Positions include a Park Ranger, Wildlife Refuge Manager and a Maintenance Worker.

This CCP assumes a modest growth of refuge resources over its 15-year implementation period, with three new positions as new funding is available. Current partnerships would be maintained and new ones would be sought. Daily operation of the refuges will be guided by this CCP and through the implementation of nine projects and six step-down management plans as detailed in the CCP.

Authority

This notice is published under the authority of the National Wildlife Refuge System Improvement Act of 1997 (16 U.S.C. 668dd et seq.).

Dated: November 10, 2015.
Brett E. Hunter,
Deputy Chief, National Wildlife Refuge System, Southeast Region.

[FR Doc. 2016-01414 Filed 1-22-16; 8:45 am]

BILLING CODE 4333-15-P